DEPARTMENT OF HOMELAND SECURITY

Coast Guard

33 CFR Part 117

[USCG-2007-0148]

Drawbridge Operation Regulations; York River, at Yorktown, VA

AGENCY: Coast Guard, DHS.

ACTION: Notice of temporary deviation from regulations.

SUMMARY: The Commander, Fifth Coast Guard District, has approved a temporary deviation from the regulations governing the operation of the Coleman Memorial Bridge, at mile 7.0, across York River at Yorktown, VA. This deviation allows the drawbridge to remain closed-to-navigation beginning at 7 a.m. on Saturday, December 15, 2007, until and including 11:59 p.m. on Saturday, December 22, 2007 and from 7 a.m. on Monday, on December 24, 2007 until and including 11:59 p.m. on Monday, December 31, 2007, to facilitate mechanical repairs to the operating machinery of the swing span.

DATES: This deviation is effective from 7 a.m. on December 15, 2007 to 11:59 p.m. on December 31, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Bill H. Brazier, Bridge Management Specialist, Fifth Coast Guard District, at (757) 398-6422.

SUPPLEMENTARY INFORMATION: The Coleman Memorial Bridge, a swing-type drawbridge, has a vertical clearance in the closed position to vessels of 60 feet, above mean high water.

The contractor, on behalf of the Commonwealth of Virginia Department of Transportation (VDOT)—the bridge owner, has requested a temporary deviation from the current operating regulations set out in 33 CFR Part 117.1025 to close the swing bridge to navigation to perform necessary mechanical repairs to the swing span assembly. The repairs will consist of removing and replacing the balance wheels and bronze bushings on the north and south swing spans.

To facilitate the repairs, the Coleman Memorial Bridge will be maintained in the closed-to-navigation position beginning at 7 a.m. on Saturday, December 15, 2007, until and including 11:59 p.m. on Saturday, December 22, 2007 and from 7 a.m. on Monday, December 24, 2007, until and including 11:59 p.m. on Monday, December 31, 2007.

The Coast Guard has informed the known users of the waterway of the closure periods for the bridge so that these vessels can arrange their transits to minimize any impact caused by the temporary deviation.

In accordance with 33 CFR 117.35(e), the drawbridge must return to its regular operating schedule immediately at the end of the designated time period. This deviation from the operating regulations is authorized under 33 CFR 117.35.

Dated: December 7, 2007.
Waverly W. Gregory, Jr.,
Chief, Bridge Administration Branch, Fifth Coast Guard District.

[FR Doc. E7-24741 Filed 12-19-07; 8:45 am]

BILLING CODE 4910-15-P